DEPARTMENT OF COMMERCE

National Oceanic and Atmospheric Administration

RIN 0648-XK65

Pacific Fishery Management Council; Public Meeting

AGENCY: National Marine Fisheries Service (NMFS), National Oceanic and Atmospheric Administration (NOAA), Commerce.

ACTION: Notice of public meetings.

SUMMARY: The Pacific Fishery Management Council's (Council) Groundfish Allocation Committee (GAC) will a hold working meeting, which is open to the public.

DATES: The GAC will meet Wednesday, October 8, 2008, from 8 a.m. until business for the day is completed, and reconvene on Thursday, October 9, at 8 a.m. and continue until business for the day is completed.

ADDRESSES: The GAC meeting will be held at the Residence Inn Portland Downtown at Riverplace, Broadway Room, 2115 SW River Parkway, Portland, OR 97201; telephone: (503) 552-9500.

Council address: Pacific Fishery Management Council, 7700 NE Ambassador Place, Suite 101, Portland, OR 97220-1384.

FOR FURTHER INFORMATION CONTACT: Mr. Jim Seger, Staff Officer; telephone: (503) 820-2280.

SUPPLEMENTARY INFORMATION: The purpose of the meeting is to develop recommendations to the Council for a preferred trawl rationalization alternative, on which the Council is scheduled to take its final action at the November 2008 Council meeting.

Although non-emergency issues not contained in the meeting agenda may come before the Groundfish Allocation Committee (GAC) for discussion, those issues may not be the subject of formal GAC action during this meeting. GAC action will be restricted to those issues specifically listed in this notice and any issues arising after publication of this notice that require emergency action under Section 305(c) of the Magnuson-Stevens Fishery Conservation and Management Act, provided the public has been notified of the Committee's intent to take final action to address the emergency.

Special Accommodations

This meeting is physically accessible to people with disabilities. Requests for sign language interpretation or other auxiliary aids should be directed to Ms. Carolyn Porter at (503) 820-2280 at least 5 days prior to the meeting date.

Dated: September 18, 2008.
Tracey L. Thompson,
Acting Director, Office of Sustainable Fisheries, National Marine Fisheries Service.

[FR Doc. E8-22164 Filed 9-22-08; 8:45 am]

BILLING CODE 3510-22-S